DEPARTMENT OF TRANSPORTATION

Federal Aviation Administration

14 CFR Part 39

[Docket No. FAA-2011-0859 ; Directorate Identifier 2010-SW-052-AD; Amendment 39-16777; AD 2011-17-13]

RIN 2120-AA64

Airworthiness Directives; Eurocopter France (ECF) Model EC120B Helicopters

AGENCY: Federal Aviation Administration, DOT.

ACTION: Final rule; request for comments.

SUMMARY: This amendment adopts a new airworthiness directive (AD) for ECF Model EC120B helicopters. This action requires inserting an emergency procedure appendix from an ECF Emergency Alert Service Bulletin into the Rotorcraft Flight Manual (RFM). This action also requires modifying the emergency switch electrical wiring and performing tests to ensure correct operation of the emergency switch. This action also requires removing the emergency procedure appendix from the RFM after modifying the emergency switch electrical wiring and performing tests to ensure correct operation. This amendment is prompted by the discovery that simultaneously setting the emergency switch to the low position “CUT-OFF” and the generator (GENE) pushbutton to “OFF” position caused the starter-generator to restart. Investigation revealed that cross-wiring at the emergency switch caused this malfunction. This condition, if not corrected, could lead to the inability to isolate electrical equipment during an emergency, creating the risk of an uncontrolled electrical fire and subsequent loss of control of the helicopter.

DATES: Effective September 12, 2011.

The incorporation by reference of certain publications listed in the regulations is approved by the Director of the Federal Register as of September 12, 2011.

Comments for inclusion in the Rules Docket must be received on or before October 25, 2011.

ADDRESSES: Use one of the following addresses to submit comments on this AD:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

You may get the service information identified in this AD from American Eurocopter Corporation, 2701 Forum Drive, Grand Prairie, TX 75053-4005, telephone (800) 232-0323, fax (972) 641-3710, or at http://www.eurocopter.com.

Examining the Docket: You may examine the docket that contains the AD, any comments, and other information on the Internet at http://www.regulations.gov, or in person at the Docket Operations office between 9 a.m. and 5 p.m., Monday through Friday, except Federal holidays. The Docket Operations office (telephone (800) 647-5527) is located in Room W12-140 on the ground floor of the West Building at the street address stated in the ADDRESSES section. Comments will be available in the AD docket shortly after receipt.

FOR FURTHER INFORMATION CONTACT: George Schwab, Aviation Safety Engineer, FAA, Rotorcraft Directorate, Safety Management Group, 2601 Meacham Blvd., Fort Worth, Texas 76137, telephone (817) 222-5114, fax (817) 222-5961.

SUPPLEMENTARY INFORMATION:

Discussion

The European Aviation Safety Agency (EASA), which is the Technical Agent for the Member States of the European Union, has issued EASA AD No. 2010-0078-E, dated April 23, 2010, to correct an unsafe condition for the ECF Model EC120B helicopters. EASA advises that while conducting a “smoke in the cockpit” procedure, ECF found that setting the emergency switch to CUT-OFF and the GENE pushbutton to OFF at the same time caused the aircraft starter-generator to “cut-in again.” Technical investigations revealed that cross-wiring at the emergency switch caused the malfunction. In this configuration, the “smoke in the cockpit” procedure described in the RFM does not isolate the equipment electrical power supply.

Related Service Information

ECF has issued Emergency Alert Service Bulletin No. 24A012, dated April 22, 2010 (EASB), which specifies modifying the emergency switch electrical wiring and testing the wiring for correct operation of the emergency switch. EASA classified this EASB as mandatory and issued AD No. 2010-0078-E, dated April 23, 2010, to ensure the continued airworthiness of these helicopters.

FAA's Evaluation and Unsafe Condition Determination

This helicopter has been approved by the aviation authority of France and is approved for operation in the United States. Pursuant to our bilateral agreement with France, EASA, their technical representative, has notified us of the unsafe condition described in the MCAI AD. We are issuing this AD because we evaluated all information provided by EASA and determined the unsafe condition exists and is likely to exist or develop on other helicopters of the same type design.

Differences Between This AD and the EASA AD

This AD uses “hours time-in-service,” and the EASA AD uses “flight hours.”

FAA's Determination and Requirements of This AD

This unsafe condition is likely to exist or develop on other helicopters of the same type design. Therefore, this AD is being issued to correct the electrical wiring to allow the isolation of electrical equipment in the event of an emergency and to prevent an uncontrolled electrical fire and subsequent loss of control of the helicopter. This AD requires, before further flight, inserting the appendix from the EASB, paragraph 3.5., “SMOKE IN THE COCKPIT/CARGO,” into the “Emergency Procedure” section of the RFM. This AD also requires within 15 hours TIS or 30 days, whichever occurs first, modifying the emergency switch electrical wiring by reversing the wires and ground testing the modified electrical wiring. Modifying the emergency switch wiring, obtaining successful ground test results indicating proper operation of the emergency switch, and removing the RFM emergency procedure inserted in compliance with this AD constitutes terminating action for the requirements of this AD.

The short compliance time involved is required because the previously described critical unsafe condition can adversely affect the continued safe flight of the helicopter. Therefore, before further flight, inserting the emergency procedure appendix into the RFM from the EASB is required. Also, modifying the emergency switch electrical wiring, performing ground tests to confirm correct operation of the emergency switch, and removing the emergency procedure appendix from the RFM are required within 15 hours TIS or 30 days, whichever occurs first, a short compliance time, and this AD must be issued immediately.

Since a situation exists that requires the immediate adoption of this regulation, it is found that notice and opportunity for prior public comment hereon are impracticable, and that good cause exists for making this amendment effective in less than 30 days.

Costs of Compliance

We estimate that this AD will affect about 20 helicopters of U.S. registry. We also estimate that it will take about 1 work-hour per helicopter to modify the wiring and to do a ground test. The time required for inserting a page from the EASB into the RFM is minimal. The average labor rate is $85 per work-hour. The wiring will cost about $17 per helicopter. Based on these figures, we estimate the cost of this AD on U.S. operators will be $2,040 for the fleet or $102 per helicopter.

Comments Invited

This AD is a final rule that involves requirements affecting flight safety, and we did not precede it by notice and opportunity for public comment. We invite you to send any written relevant data, views, or arguments about this AD. Send your comments to an address listed under the ADDRESSES section. Include “Docket No. FAA-2011-0859; Directorate Identifier 2010-SW-052-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact with FAA personnel concerning this AD. Using the search function of the docket Web site, you can find and read the comments to any of our dockets, including the name of the individual who sent the comment. You may review the DOT's complete Privacy Act Statement in the Federal Register published on April 11, 2000 (65 FR 19477-78).

Regulatory Findings

We have determined that this AD will not have federalism implications under Executive Order 13132. This AD will not have a substantial direct effect on the States, on the relationship between the national Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this AD. See the AD docket to examine the economic evaluation.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2011-17-13 EUROCOPTER FRANCE: Amendment 39-16777; Docket No. FAA-2011-0859; Directorate Identifier 2010-SW-052-AD.

Applicability: Model EC120B helicopters, serial number (S/N) 1500, 1511 through 1630, 1632, 1634, and 1636, certificated in any category.

Compliance: Required as indicated, unless accomplished previously.

To prevent nonisolation of electrical equipment creating the risk of an uncontrolled electrical fire, do the following:

(a) Before further flight, insert the “Appendix” from the Eurocopter Emergency Alert Service Bulletin No. 24A012, dated April 22, 2010 (EASB), paragraph 3.5., “SMOKE IN THE COCKPIT/CARGO,” into the Emergency Procedure section of the Rotorcraft Flight Manual (RFM). After complying with paragraph (b) of this AD, remove the Appendix from the RFM.

(b) Within 15 hours time-in-service (TIS) or 30 days, whichever occurs first, modify the emergency switch electrical wiring by reversing the wires as depicted in Figure 2 and by following the Accomplishment Instructions, paragraph 2.B.1 through 2.B.3, of the EASB. Ground test the modified electrical wiring by following the Accomplishment Instructions, paragraph 2.B.4, of the EASB.

(c) Modifying the emergency switch wiring, obtaining successful ground test results indicating proper operation of the emergency switch, and removing the RFM emergency procedure inserted in complying with paragraph (a) of this AD constitutes terminating action for the requirements of this AD.

(d) To request a different method of compliance or a different compliance time for this AD, follow the procedures in 14 CFR 39.19. Contact the Manager, Safety Management Group, ATTN: George Schwab, Aviation Safety Engineer, FAA, 2601 Meacham Blvd., Fort Worth, Texas 76137; telephone: (817-222-5114); fax: 817-222-5961, for information about previously approved alternative methods of compliance.

(e) The Joint Aircraft System/Component (JASC) Code is 2497: Electrical Power System Wiring.

(f) Modify the electrical wiring and perform the ground tests by following specified portions of Eurocopter Emergency Alert Service Bulletin No. 24A012, dated April 22, 2010. The Director of the Federal Register approved this incorporation by reference in accordance with 5 U.S.C. 552(a) and 1 CFR part 51. Copies may be obtained from American Eurocopter Corporation, 2701 Forum Drive, Grand Prairie, TX 75053-4005, telephone (800) 232-0323, fax (972) 641-3710, or at http://www.eurocopter.com. Copies may be inspected at the FAA, Office of the Regional Counsel, Southwest Region, 2601 Meacham Blvd., Room 663, Fort Worth, Texas, or at the National Archives and Records Administration (NARA). For information on the availability of this material at NARA, call 202-741-6030, or go to: http://www.archives.gov/federal_register/code_of_federal_regulations/ibr_locations.html.

(g) This amendment becomes effective on September 12, 2011.

Note: The subject of this AD is addressed in European Aviation Safety Agency AD No. 2010-0078-E, dated April 23, 2010.

Issued in Fort Worth, Texas, on August 5, 2011.
Kim Smith,
Manager, Rotorcraft Directorate, Aircraft Certification Service.

[FR Doc. 2011-21473 Filed 8-25-11; 8:45 am]

BILLING CODE 4910-13-P